DEPARTMENT OF LABOR

Proposed Information Collection Request (ICR) for the Survey of Working Women; Comment Request

AGENCY: Women's Bureau, Department of Labor.

ACTION: Notice of information collection.

SUMMARY: The Department of Labor (DOL or the Department), as part of its continuing effort to reduce paperwork and respondent burden, conducts a preclearance consultation program to provide the general public and Federal agencies with an opportunity to comment on proposed and/or continuing collections of information in accordance with the Paperwork Reduction Act of 1995 (PRA) [44 U.S.C. 3505(c)(2)(A)]. This program helps to ensure that required data can be provided in the desired format, reporting burden (time and financial resources) is minimized, collection instruments are clearly understood, and the impact of collection requirements on respondents can be properly assessed. The Department notes that a Federal agency cannot conduct or sponsor a collection of information unless it is approved by the Office of Management and Budget (OMB) under the PRA and the related materials display a currently valid OMB control number. Also, notwithstanding any other provisions of law, no person shall be subject to penalty for failing to comply with a collection of information if the related materials do not display a currently valid OMB control number. See 5 CFR 1320.5(a) and 1320.6. A copy of the proposed ICR can be obtained by contacting the office listed below in the ADDRESSES section.

DATES: Written comments must be received by the office listed in the addresses section below on or before April 27, 2015.

ADDRESSES: Send comments to Angela Adams, U.S. Department of Labor, Women's Bureau, 200 Constitution Avenue NW., Frances Perkins Bldg., Washington, DC 20210, telephone number (202) 693-6730 (this is not a toll-free number). Email address is Adams.Angela@dol.gov and fax number is (202) 693-6725.

SUPPLEMENTARY INFORMATION:

1. Background: The labor force, employment opportunities, work environments, and the American family have changed substantially since the Women's Bureau (WB) published the results of the Working Women Count! survey in 1994. Specifically, in the last twenty years, there have been significant changes in technology, wealth distribution, family composition and individual debt levels. There have also been changes in educational attainment, wage disparity, health benefits, the number of single mothers in the work force, and marriage, divorce and birth rates. Additionally the emergence of a more global economy, telecommuting, and continuing significant changes in the racial, ethnic, and cultural demographics of the United States labor force have all shifted.

As a result of these major changes in the economic and employment landscapes, the WB is interested in conducting a Survey of Working Women (Survey) in order to identify women's current employment issues and challenges and how these issues and challenges relate to job and career decisions, particularly reasons for exiting the workforce. Understanding women's perceptions about the workplace and their participation in the workforce, as well as decision points made at the intersection of work and family obligations, will allow the WB to share valuable information and data with employers, advocates and other stakeholders in an effort to foster greater collaboration and inform policies and practices that meet women's changing needs; and also foster greater public dialogue on these key issues impacting women in today's workforce.

As part of this study of working women, the WB commissioned a thorough review of the literature and an environmental scan to examine existing research related to the realities of working women's experience to identify and highlight the research gaps. Key research gaps identified, through this extensive review, included the need for more research among specific populations of working women (i.e. low-wage earning workers and women who opted out of the workforce) and around specific topics (i.e. factors impacting working women's career decisions and perceptions, off-ramping, and workplace challenges).

The WB is proposing to conduct a quantitative survey, which would collect information in order to identify employment issues and challenges currently facing women, including their perceptions on career choice and overall equity in the workplace, and also to explore the factors that contribute to women leaving and/or staying out of the workforce.

The Survey will address the current information needs of the WB and DOL. This research will help the WB support and meet its objectives of:

1. Expanding knowledge

2. Informing policy and practice

3. Fostering collaboration with key stakeholders and

4. Fostering public dialogue on key issues affecting women in today's workforce.

2. Desired Focus of Comments: Currently, the Department of Labor is soliciting comments concerning the above data collection. Comments are requested that:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the information collection on those who are to respond, including the use of appropriate automated, electronic, mechanical, or other technological collection techniques or other forms of information technology, e.g., permitting electronic submissions of responses.

3. Current Actions: Pursuant to the PRA implementing regulations at 5 CFR § 1320.8(d)(1), this notice requests comments on the proposed information collection request discussed above in the Background section of this notice. Interested parties are encouraged to provide comments to the individual list in the ADDRESSES section above.

Agency: Women's Bureau.

Type of Review: New Collection.

Title of Collection: Survey of Working Women.

OMB Control Number: 1291—0NEW.

Affected Public: Individuals or households.

The Survey will be conducted with 2700 respondents. Outlined below are estimates of the total burden hours associated with the data collection.

Type of respondent | Form name | Number of respondents | Number responses per respondent | Average burden per response (in hours) | Total burden hours
General Working Population | Survey of Working Women | 2700 | 1 | .25 | 675

Comments submitted in response to this request will be summarized and/or included in the request for OMB approval; they will also become a matter of public record.

Dated: February 18, 2015.
Latifa Lyles,
Director of the Women's Bureau.

[FR Doc. 2015-04047 Filed 2-25-15; 8:45 am]

BILLING CODE 4510-23-P